DEPARTMENT OF DEFENSE

Department of the Navy

Notice of Public Meetings for the Draft Legislative Environmental Impact Statement for the Proposed Renewal of the Chocolate Mountain Aerial Gunnery Range Land Withdrawal, California

AGENCY: Department of the Navy, DoD.

Cooperating Agencies: Bureau of Reclamation and Bureau of Land Management, Department of the Interior.

ACTION: Notice.

SUMMARY: Pursuant to Section 102(2)(c) of the National Environmental Policy Act of 1969 (NEPA) (42 U.S.C. 4321-4370h); the Council on Environmental Quality regulations for implementing the procedural provisions of NEPA (40 CFR 1500-1508); Department of the Navy (DoN) Procedures for Implementing NEPA (32 CFR Part 775); and Marine Corps NEPA directives (Marine Corps Order P5090.2A), the DoN, in cooperation with the Bureau of Land Management (BLM) and Bureau of Reclamation, has prepared and filed with the U.S. Environmental Protection Agency a Draft Legislative Environmental Impact Statement (LEIS) that evaluates the potential environmental consequences that may result from renewing the withdrawal of approximately 228,465 acres of public land for continued use as part of the Chocolate Mountain Aerial Gunnery Range (CMAGR) in Imperial and Riverside counties, California.

With the filing of the Draft LEIS, the United States Marine Corps (USMC) is initiating a 90-day public comment period and has scheduled four public meetings to receive oral and written comments on the Draft LEIS. Federal, state, and local agencies; Native American tribes; and interested parties are encouraged to provide comments in person at any of the public meetings, or in writing anytime during the public comment period. This notice announces the dates and locations of the public meetings and provides supplementary information about the environmental planning effort. These public meetings also meet the requirement set forth in Section 806 of the California Desert Protection Act for the Secretary of the Navy to hold a public hearing in the State of California to receive public comments on the Draft LEIS.

DATES AND ADDRESSES: The Draft LEIS public review period will begin on August 31, 2012 and end on November 30, 2012. All comments regarding the Draft LEIS must be received by November 30, 2012 to ensure full consideration in the Final LEIS. Each of the four public meetings will be conducted in an open house meeting format. The public meetings will be held from 5:30 p.m. to 8:00 p.m. on the following dates and at the following locations:

1. October 22, 2012 at the Yuma County Library, 2951 S. 21st Drive, Rooms B-C, Yuma, AZ.

2. October 23, 2012 at the Southwest High School, 2001 Ocotillo Dr., El Centro, CA.

3. October 24, 2012 at the Mizell Senior Center, 480 South Sunrise Way, Palm Springs, CA.

4. October 25, 2012 at the Oceanside Public Library, 330 North Coast Highway, Oceanside, CA.

Public meeting schedules and locations will also be published in local newspapers. The public is invited to attend these meetings to view project-related displays; speak with DoN, the USMC, and Department of the Interior representatives; and submit public comments.

Availability of the Draft LEIS: The Draft LEIS is available at the project Web site, www.chocolatemountainrenewal.com and at the following local libraries:

1. County Library (Main Branch): 2951 S. 21st Drive, Yuma, AZ.

2. Public Library: 400 Main Street, Brawley, CA.

3. Public Library (San Ysidro Branch): 101 W. San Ysidro Blvd., San Diego, CA.

4. Palo Verde Valley Library: 125 West Chanslor Way, Blythe, CA.

5. Community Center Branch Library: 375 South 1st Street, El Centro, CA.

Comments: Attendees will be able to submit written comments at the public meetings. A court reporter will be available to accept oral comments. Equal weight will be given to oral and written statements. Comments on the Draft LEIS may be submitted by: (1) Attending one of the public hearings and providing oral or written comments, (2) completing the comment form on the project's public Web site at www.chocolatemountainrenewal.com/Comment/Default.aspx, or (3) by sending a letter to the CMAGR LEIS Project Manager (Attn: Ms. Kelly Finn), NAVFAC Southwest, 1220 Pacific Highway, Building 1 Central IPT, San Diego, CA 92132-5190. All comments must be postmarked or electronically dated no later than November 30, 2012 to ensure they become part of the public record. All statements (oral transcription and written) submitted during the public review period will become part of the public record on the Draft LEIS and will be addressed in the Final LEIS. Before including your address, telephone number, email address, or other personal identifying information in your comment, please be aware that your entire comment—including any personal identifying information—may be made publicly available at any time. Although requests can be made to withhold personal identifying information from public review, it may not be possible to keep this information from disclosure.

FOR FURTHER INFORMATION CONTACT: CMAGR LEIS Project Manager (Attn: Ms. Kelly Finn), NAVFAC Southwest, 1220 Pacific Highway, Building 1 Central IPT, San Diego, CA 92132-5190; phone 619-532-4452. Additional supplementary information regarding the CMAGR Draft LEIS is available at www.chocolatemountainrenewal.com. Please submit requests for special assistance, sign language interpretation for the hearing impaired, or other auxiliary aids needed at the public meetings to the LEIS Project Manager at least five business days before the meeting date.

SUPPLEMENTARY INFORMATION: A Notice of Intent to prepare the Draft LEIS was published in the Federal Register on September 24, 2010 (Vol. 75, No. 185, p. 58370).

Purpose and Need: The CMAGR has served as an aerial bombing and gunnery training range since the 1940s, and currently provides approximately 458,530 acres (about 716 square miles) of land to support military training. Training at the CMAGR is also supported by overlying and adjacent special-use airspace that extends laterally for several thousands of square miles. The CMAGR is needed to provide live-fire training that is essential for developing and maintaining the readiness of USMC and Navy aviators. The range is also vital for training select USMC and Navy land combat forces; including Naval Special Warfare (NSW) forces. Among other activities, the CMAGR and associated airspace supports training in air combat maneuvering and tactics; close air support (where air-to-ground ordnance is delivered directly in support of friendly forces); airborne laser system operations; air-to-air gunnery; and air-to-ground bombing, rocketry, and strafing. Ground-based artillery, demolition, small arms, and NSW training are also conducted within the range. The CMAGR is a centerpiece in a much larger training complex that incorporates adjacent and nearby special use airspaces and ranges to support full-spectrum combat operations so that Marines can realistically train as they will fight.

The purpose of renewing the CMAGR land withdrawal is to retain the training range. The U.S. military is fully invested in the principle that high quality training is essential to the success and survival of its forces in combat; the CMAGR is needed to provide the quality training that provides a realistic approximation of the conditions that Marines, sailors, airmen, and soldiers will face in combat as individuals and in small or large units. Access to ranges that offer flexible, diverse, and realistic training is essential to preparing tactical forces of the highest possible quality. Thus, the necessity of keeping the CMAGR fully in service can best be understood from two main perspectives: (1) The necessity of providing high quality training and (2) the superlative qualities of the CMAGR for supporting that training.

Proposed Action: The Proposed Action is to renew the military land withdrawal and reservation of the CMAGR. The Proposed Action includes four elements: (1) Defining a proposed range boundary and land withdrawal area; (2) either a set duration for the proposed land withdrawal with an option for requesting a subsequent renewal, a land withdrawal without a termination date, or transferring the land to the DoN; (3) proposals for redefining DoN and BLM management responsibilities for the CMAGR; and (4) provisions for the disposal and management of land that is not included in the renewal.

Alternatives Considered in the Draft LEIS: A range of alternatives for the proposed renewal and administration of the CMAGR land withdrawal were developed in consideration of comments received from the public, Native American tribes, and government agencies during the scoping process. Four action alternatives (Alternatives 1 through 4) would renew the land withdrawal and keep the CMAGR available to support military training. The no-action alternative (Alternative 5) would allow the current land withdrawal to expire in October 2014, which would result in the closure of the CMAGR for military training.

The Draft LEIS evaluates realigning the CMAGR boundary in three locations: South of the Niland-Blythe Road on the eastern side of the range, along the Bradshaw Trail at the northern end of the range, and along the Union Pacific Railroad (UPRR) at the southwestern side of the range. The Bradshaw Trail and UPRR realignments are proposed to align the CMAGR boundary with these prominent geographic features, which would increase public awareness of the location of the range boundary and facilitate maintenance of prohibited entry and hazardous area warning signs along the CMAGR perimeter.

Two parcels of currently withdrawn BLM land located south of the Niland-Blythe Road, which are not needed for military purposes, are proposed to be excluded from the withdrawal renewal.

Two alternatives for realigning the CMAGR boundary along the south side of the Bradshaw Trail are considered in the Draft LEIS. The full Bradshaw Trail realignment would align the CMAGR boundary along the southern side of the trail for the entire 36 miles over which it intersects the range. The full realignment would (1) release about 647 acres of DoN land and about 1,924 acres of currently withdrawn BLM land, including the Bradshaw Trail National Backcountry Byway, north of the realigned boundary from the CMAGR and (2) require the first-time withdrawal of about 530 acres of BLM land and potential acquisition of about 455 acres of private and 10 acres of State land to the interior of the new boundary. The land proposed for release is not needed for military purposes. The partial Bradshaw Trail realignment would align the CMAGR boundary along the southern side of an aggregate of about 20 miles of segments of the Bradshaw Trail that traverse either DoN or currently withdrawn BLM land. This action would release about 647 acres of DoN land and about 1,640 acres of currently withdrawn BLM land from the ranges that are not needed for military purposes. The boundary would not be realigned from its present locations where BLM, State, or private land south of the Bradshaw Trail is not presently part of the CMAGR.

The proposed UPRR realignment on the southwestern side of the CMAGR would follow the eastern side of the UPRR right-of-way, the northern side of the Mesquite Regional Landfill Rail Spur right-of-way, and an existing road. This action would include (1) the first-time withdrawal of about 11,903 acres of BLM land that are not currently in the CMAGR and (2) the potential acquisition of about 658 acres of State land.

The boundary realignment proposals create four boundary and land withdrawal alternatives:

1. Renew the CMAGR boundary and land withdrawal area without change from the existing condition (Alternative 1).

2. Renew the CMAGR boundary and land withdrawal area per the existing conditions except incorporate the full Bradshaw Trail, UPRR, and south of Niland-Blythe Road realignments (Alternative 2).

3. Renew the CMAGR boundary and land withdrawal area per the existing conditions except incorporate the full Bradshaw Trail and south of Niland-Blythe Road realignments (Alternative 3).

4. Renew the CMAGR boundary and land withdrawal area per the existing conditions except incorporate only the partial Bradshaw Trail realignment (Alternative 4).

The boundary realignment and land withdrawal area proposals of Alternatives 2, 3, and 4 would each release some BLM and DoN land from the CMAGR. Alternatives considered for the disposal and management of land released from range include:

1. Released DoN land would be transferred to BLM; BLM would manage transferred DoN and formerly withdrawn BLM land per FLPMA (Alternative 2).

2. Released DoN land would be disposed of through existing General Services Administration (GSA) authorities and procedures; DoN would manage released land per the Sikes Act until disposal is complete and BLM would manage formerly withdrawn BLM land per FLPMA (Alternatives 3 and 4).

Three options are proposed for the duration of the renewed CMAGR land withdrawal: 20 years (Alternative 1, existing condition); 25 years (Alternatives 2 and 4); or indefinite (Alternative 3).

Three options are proposed for administering federal land management responsibilities for the DoN and BLM lands within the current CMAGR boundary and for BLM land that may be included in the range for the first time as a part of a proposed boundary realignment. The options include:

1. Retain the existing DoN and BLM management assignments within the renewed CMAGR, which provide that the DoN is responsible for managing DoN land in accordance with the Sikes Act and the BLM is responsible for managing BLM land in accordance with the Federal Land Policy and Management Act (FLPMA) (Alternative 1, existing condition).

2. Transfer management responsibility for BLM land within the renewed CMAGR to the DoN for the duration of the land withdrawal, which would make the DoN responsible for managing both the DoN and withdrawn BLM lands within the range in accordance with the Sikes Act (Alternatives 2 and 4).

3. Transfer jurisdiction for the BLM land within the renewed CMAGR to the DoN, which would make the DoN responsible for managing all land within the range in accordance with the Sikes Act until such time that the need for the range may end and it is deactivated and closed (Alternative 3).

The no-action alternative (Alternative 5) would result in the closure of the CMAGR for military training. Selection of this alternative would trigger planning and actions to compensate for the displacement of training from the range and planning and actions for the decommissioning, decontamination and cleanup, and potential reuse of at least portions of the range. The BLM would resume full administrative responsibility for about 226,825 acres of currently withdrawn BLM land, with the possible exception of parcels that the Secretary of the Interior may not be able to accept because of potential expended ordnance contamination. The Secretary of the Navy would be responsible for custodial management of parcels with unacceptable levels of expended ordnance contamination. The Secretary of the Navy would also retain administrative responsibility for about 229,256 acres of DoN land from the closed CMAGR until such time as a portion or all of that land could be transferred to another federal agency, the State of California, or otherwise disposed of through existing GSA authorities and procedures. The State of California holds reversionary rights for about 11,311 acres of DoN land in the CMAGR that were acquired in fee from the State. California also holds some or all mineral rights on an additional 10,981 acres of the DoD land.

Dated: August 24, 2012.
C.K. Chiappetta,
Lieutenant Commander, Office of the Judge Advocate General, U.S. Navy, Federal Register Liaison Officer.

[FR Doc. 2012-21465 Filed 8-30-12; 8:45 am]

BILLING CODE 3810-FF-P